INTERNATIONAL TRADE COMMISSION

[Investigation No. 337-TA-1349]

Components for Certain Environmentally-Protected LCD Digital Displays and Products Containing the Same; Notice of a Commission Determination To Grant a Joint Motion To Terminate the Investigation on the Basis of Settlement; Termination of the Investigation

AGENCY: U.S. International Trade Commission.

ACTION: Notice.

SUMMARY: Notice is hereby given that the U.S. International Trade Commission (“Commission”) has determined to grant a joint motion to terminate this investigation based on settlement.

FOR FURTHER INFORMATION CONTACT: Joelle P. Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On January 10, 2023, the Commission instituted this investigation based on a complaint filed by Samsung Electronics Co., Ltd. of the Republic of Korea; Samsung Electronics America, Inc. of Ridgefield Park, New Jersey; Samsung Research America, Inc. of Mountain View, California; and Samsung International, Inc. of Chula Vista, California (collectively, “Samsung”). 88 FR 1404-05 (Jan. 10, 2023). The complaint alleged violations of section 337 based on the importation into the United States, the sale for importation, or the sale within the United States after importation of components for certain environmentally-protected LCD digital displays and products containing same by reason of infringement of certain claims of U.S. Patent Nos. 7,948,575 (“the '575 patent”); 8,111,348 (“the '348 patent”); RE45,117 (“the '117 patent”); 8,842,253 (“the '253 patent”); and 8,223,311 (“the '311 patent”). Id. The Commission's notice of investigation named Manufacturing Resources International, Inc. (“MRI”) of Alpharetta, Georgia as the sole respondent. The Office of Unfair Import Investigations was not named as a party in this investigation. Id.

On October 10, 2023, the Commission determined not to review an initial determination terminating the investigation as to all asserted claims of the '575 patent; all asserted claims of the '348 patent; claim 5 of the '117 patent; claims 1, 10, 11, and 16-19 of the '253 patent; and claims 1-3 and 7-12 of the '311 patent. Order No. 22, unreviewed by Comm'n Notice (Oct. 10, 2023).

On April 16, 2024, the presiding administrative law judge issued a final initial determination (“final ID”) on violation of section 337 and a recommended determination on remedy and bond. The final ID held that no violation of section 337 has occurred in the importation into the United States, the sale for importation, or the sale within the United States after importation of components of certain environmentally-protected LCD digital displays and products containing the same by reason of infringement of claims 1 and 2 of the '117 patent, claims 4, 6, and 13 of the '311 patent, and claim 12 of the '253 patent.

On June 17, 2024, the Commission determined to review the final ID in part. See 89 FR 52505 (June 24, 2024). The Commission asked the parties to address a number of questions related to the issues under review. Id. at 52506-07.

On July 1, 2024, Samsung and MRI each filed an initial written response to the Commission's request for briefing. On July 9, 2024, the parties each filed a reply submission.

On August 13, 2024, the parties filed a Joint Motion to Stay Investigation and Extend Target Date. The parties stated they have agreed to resolve the investigation based on the terms of the Binding Term Sheet (Ex. A), but requested that the Commission stay the investigation and extend the target date to August 30, 2024, to allow the parties time to execute a final settlement agreement and file a motion to terminate the investigation. The Commission granted the motion, stayed the investigation, and extended the target date for completion of the investigation to September 16, 2024. Comm'n Notice (Aug. 16, 2024).

On August 28, 2024, the parties filed a Joint Motion for Termination by Settlement (“Motion”). The parties submitted the executed settlement agreement as Exhibit A to the Motion.

The Commission has determined that the Motion complies with the requirements of Rule 210.21(b)(1) of the Commission's Rules of Practice and Procedure (19 CFR 210.21(b)(1)), and that there are no extraordinary circumstances that would prevent the requested termination. The Commission also finds that granting the Motion would not be contrary to the public interest pursuant to Rule 210.50(b)(2) of the Commission's Rules of Practice and Procedure (19 CFR 210.50(b)(2)). Accordingly, the Commission hereby grants the Motion. The Commission takes no position as to the issues that remain under review.

This investigation is terminated.

The Commission vote for this determination took place on September 12, 2024.

This action is taken under the authority of section 337 of the Tariff Act of 1930, as amended (19 U.S.C. 1337), and in part 210 of the Commission's Rules of Practice and Procedure (19 CFR part 210).

By order of the Commission.
Issued: September 12, 2024.
Lisa Barton,
Secretary to the Commission.

[FR Doc. 2024-21114 Filed 9-16-24; 8:45 am]

BILLING CODE 7020-02-P